DEPARTMENT OF ENERGY

Federal Energy Regulatory Commission

[Docket No. RP00-217-000]

Cove Point LNG Limited Partnership; Notice of Request for Extension of Time

March 23, 2000.

Take notice that on March 13, 2000, pursuant to Rule 212 of the Commission's Rules of Practice and Procedure, 18 CFR 385.212, Cove Point LNG Limited Partnership (Cove Point) tendered for filing a request for an extension of time in which to comply with the requirement to make a pro forma tariff filing, by May 1, 2000, to implement certain tariff changes regarding scheduling, capacity segmentation and penalties, as mandated by Order No. 637.

Cove Point argues that reopening of Cove Point's LNG tanker discharging service will result in a significant increase in the volume of revaporized LNG and natural gas being delivered out of Cove Point's facilities into the natural gas pipelines interconnected with Cove Point. Cove Point states that the increased throughput will necessitate changes to operations at Cove Point which will involve those subject matters covered by Order No. 637.

Cove Point requests that it be granted an extension of time to comply with the requirements of Order No. 637 that have a May 1, 2000 compliance deadline, so that the required tariff changes would be effective on the date that the tariff sheets approved for the reactivation of the LNG discharging terminal are effective.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before March 30, 2000. Protests will be considered by the Commission in determining the appropriate action to be taken, but will not serve to make protestants parties to the proceedings. Any person wishing to become a party must file a motion to intervene.

Copies of this filing are on file with the Commission and are available for public inspection in the Public Reference Room. This filing may be viewed on the web at http://www.ferc.fed.us/online/rims.htm (call 202-208-2222 for assistance).

Linwood A. Watson, Jr.,
Acting Secretary.

[FR Doc. 00-7676 Filed 3-28-00; 8:45 am]

BILLING CODE 6717-01-M